Title 3—

The President

Proclamation 10145 of February 3, 2021

American Heart Month, 2021

By the President of the United States of America

A Proclamation

Tragically, heart disease continues to be a leading cause of death in the United States. It affects Americans of all genders, races, and ethnicities. Yet despite being one of the country's most costly and deadly diseases, it is among the most preventable. During American Heart Month, we recommit to fighting this disease by promoting better health, wellness, and prevention awareness in our communities.

Heart disease can impact anyone, but risk factors such as high cholesterol, high blood pressure, physical inactivity, obesity, tobacco use, and alcohol abuse can increase the likelihood of developing the disease. By adopting a few healthy habits, each of us can reduce our risk. Avoiding tobacco, moderating alcohol consumption, making balanced and nutritious meal choices, and staying active can help prevent or treat conditions that lead to heart disease. Adults with heart conditions are also at increased risk of severe illness from COVID-19, which makes it even more important to follow these suggestions.

We have seen the death rate from heart attacks rise dramatically during the COVID-19 pandemic because people are delaying or not seeking care after experiencing symptoms. It is important not to ignore early warning signs like chest pain, palpitations, shortness of breath, and sudden dizziness. And the symptoms of a heart attack can be different for men and women, an often-overlooked fact that can impact when people seek care. For more resources and information, follow your health care provider's advice or visit www.CDC.gov/HeartDisease.

My Administration is committed to supporting Americans in their efforts to achieve heart health. Under the Affordable Care Act, many insurance plans cover preventive services like blood pressure and obesity screening at no out-of-pocket cost to the patient. By protecting and expanding access to quality, affordable health care, we will work tirelessly to provide all Americans with the care they need to prevent and treat heart disease.

We are also committed to closing the racial disparities in cardiovascular health. Despite an overall decline in death rates for heart disease, risk of heart disease death differs by race and ethnicity, and Black Americans continue to have the highest death rate for heart disease. Increased awareness and access to care will help reduce these staggering and unacceptable statistics.

This month, we also honor the health care professionals, researchers, and heart health advocates who save our fellow Americans' lives with their hard work. Every day, they put themselves on the front lines of our fight against heart disease, as well as the scourge of COVID-19.

The First Lady and I encourage everyone to participate in National Wear Red Day on Friday, February 5th. By wearing red, we honor those we have lost to heart disease, and we raise awareness of the steps we can all take to prevent this devastating disease. Combatting heart disease is essential to improving public health in our Nation, and together we will renew our efforts to make all Americans aware of its signs and symptoms. This month, we recommit to building a healthier future for all.

In acknowledgement of the importance of the ongoing fight against cardiovascular disease, the Congress, by Joint Resolution approved December 30, 1963, as amended (36 U.S.C. 101), has requested that the President issue an annual proclamation designating February as “American Heart Month.”

NOW, THEREFORE, I, JOSEPH R. BIDEN JR., President of the United States of America, do hereby proclaim February 2021 as American Heart Month, and I invite all Americans to participate in National Wear Red Day on February 5, 2021. I also invite the Governors of the States, the Commonwealth of Puerto Rico, officials of other areas subject to the jurisdiction of the United States, and the American people to join me in recognizing and reaffirming our commitment to fighting cardiovascular disease.

IN WITNESS WHEREOF, I have hereunto set my hand this third day of February, in the year of our Lord two thousand twenty-one, and of the Independence of the United States of America the two hundred and forty-fifth.

[FR Doc. 2021-02675

Filed 2-5-21; 8:45 am]

Billing code 3295-F1-P